DEPARTMENT OF COMMERCE

National Institute of Standards and Technology

[Docket Number: 101129594-0594-02]

Alternative Personnel Management System (APMS) at the National Institute of Standards and Technology

AGENCY: National Institute of Standards and Technology, Department of Commerce.

ACTION: This notice provides for changes to existing provisions of the National Institute of Standards and Technology's (NIST) Alternative Personnel Management System (APMS) published October 21, 1997 (62 FR 54604).

SUMMARY: This notice announces changes to existing provisions of the National Institute of Standards and Technology's (NIST) Alternative Personnel Management System (APMS), primarily to expedite hiring and align APMS Direct-Hire procedures with the Office of Personnel Management (OPM) Direct-Hire Authority (5 CFR part 337 and 69 FR 114). NIST will pilot direct-hire authority under 5 CFR part 337, subpart B, for a period of one year from the issuance date of this notice, for all positions within NIST in the Scientific and Engineering (ZP) career path at the Pay Band III and above, for Nuclear Reactor Operator positions in the Scientific and Engineering Technician (ZT) career path at Pay Band III and above, and for all occupations for which there is a special rate under the General Schedule pay system.

DATES: This notice is effective on January 5, 2011.

FOR FURTHER INFORMATION CONTACT: Essex Brown at the National Institute of Standards and Technology, (301) 975-3801; or Pamela Boyland at the U.S. Department of Commerce, (202) 482-1068.

SUPPLEMENTARY INFORMATION:

Background

In accordance with Public Law 99-574, the NIST Authorization Act for 1987, the Office of Personnel Management (OPM) approved a demonstration project plan, “Alternative Personnel Management System (APMS) at the National Institute of Standards and Technology (NIST),” and published the plan in the Federal Register on October 2, 1987 (52 FR 37082). The project plan has been modified twice to clarify certain NIST authorities (54 FR 21331 of May 17, 1989, and 55 FR 39220 of September 25, 1990). The project plan and subsequent amendments were consolidated in the final APMS plan, which became permanent on October 21, 1997, (62 FR 54604). NIST published an amendment on May 6, 2005 (70 FR 23996), which became permanent on June 6, 2005.

The plan provides for modifications to be made as experience is gained, results are analyzed, and conclusions are reached on how the system is working. This notice formally modifies the APMS plan to align Direct-Hire procedures with OPM's Direct-Hire Authority on a pilot basis. During this pilot period, NIST will be gathering data on the impact of direct-hire authority on veterans preference eligibles as well as information supporting whether or not there is a severe shortage of candidates for the positions covered under the direct-hire authority. Veterans preference is the preferential treatment given to qualified veterans of the United States armed forces under Federal law.

Dated: December 28, 2010.
Charles H. Romine,
Acting Associate Director for Laboratory Programs.

Table of Contents

I. Executive Summary

II. Basis for APMS Plan Modification

III. Changes to the APMS Plan

I. Executive Summary

The National Institute of Standards and Technology's (NIST) Alternative Personnel Management System (APMS) is designed to (1) Improve hiring and allow NIST to compete more effectively for high-quality researchers through direct hiring, selective use of higher entry salaries, and selective use of recruiting allowances; (2) motivate and retain staff through higher pay potential, pay-for-performance, more responsive personnel systems, and selective use of retention allowances; (3) strengthen the manager's role in personnel management through delegation of personnel authorities; and (4) increase the efficiency of personnel systems through installation of a simpler and more flexible classification system based on pay banding through reduction of guidelines, steps, and paperwork in classification, hiring, and other personnel systems, and through automation.

Since implementing the APMS, according to findings in the Office of Personnel Management's “Summative Evaluation Report National Institute of Standards and Technology Demonstration Project: 1988-1995,” NIST accomplished the following: NIST is more competitive for talent; NIST retained more top performers than a comparison group; and NIST managers reported significantly more authority to make decisions concerning employee pay. This modification builds on this success by piloting direct-hire authority under 5 CFR part 337, subpart B, for a period of one-year.

This amendment modifies the October 21, 1997 Federal Register notice. Specifically, it enables NIST to hire, after public notice is given, any qualified applicant without regard to 5 U.S.C. 3309-3318, 5 CFR part 211, or 5 CFR part 337, subpart A for a period of one-year. During the one-year pilot period, NIST will gather data on the impact of direct-hire authority on preference eligibles as well as information supporting whether or not there is a severe shortage of candidates for the positions covered under the direct-hire authority.

NIST will continually monitor the effectiveness of this amendment.

II. Basis for APMS Plan Modification

Section 3304 (c) of title 5, United States Code, provides agencies with the authority to appoint candidates directly to jobs for which OPM determines that there is a severe shortage of candidates or a critical hiring need.

In 1987 with the approval of the NIST APMS (52 FR 37082), and in 1997 when the APMS plan was modified (62 FR 54604), OPM concurred that all occupations in the ZP career path at the band III and above constitute a shortage category; Nuclear Reactor Operator positions in the ZT Career Path at the Pay Band III and above constitute a shortage category; and all occupations for which there is a special rate under the General Schedule pay system constitute a shortage category.

OPM's Direct-Hire Authority enables agencies to hire, after public notice is given, any qualified application without regard to 5 U.S.C. 3309-3318, 5 CFR part 211, or 5 CFR part 337, subpart A.

NIST APMS allows the NIST Director to modify procedures if no new waiver from law or regulation is added. Given this modification is in accordance with existing law and regulation, the NIST Director is authorized to make the changes described in this notice. The modification to our final Federal Register Notice, dated October 21, 1997, with respect to our Staffing authorities is provided below.

III. Changes in the APMS Plan

The APMS at the NIST, published in the Federal Register October 21, 1997 (62 FR 54604) is amended as follows:

1. The subsection titled: “Direct Examination and Hiring” is deleted.

2. The subsection titled “Direct Hire: Critical Shortage Highly Qualified Candidates” is deleted.

3. The information under the subsection titled: “NIST Applicant Supply File” is replaced with: NIST advertises the availability of job opportunities in Direct-Hire occupations by posting on the OPM USAJOBS Web site. NIST would follow internal Direct Hire procedures for accepting applications.

4. The subsection titled: “Referral Procedures for Direct Examination and Hiring and Agency Based Staffing Authorities” is deleted.

5. A new subsection titled: “Referral Procedures for Direct-Hire” is added and the information under this subsection is as follows: After public notice is given, a qualified candidate may be referred without regard to 5 U.S.C. 3309-3318, 5 CFR part 211, or 5 CFR part 337, subpart A.

6. The subsection titled: “Direct Referral” is deleted.

7. The subsection titled: “Rating and Ranking” is deleted.

[FR Doc. 2010-33307 Filed 1-4-11; 8:45 am]

BILLING CODE P